DEPARTMENT OF TRANSPORTATION

Federal Aviation Administration

[Docket No. FAA-2023-1978]

Agency Information Collection Activities: Requests for Comments; Clearance of a Renewed Approval of Information Collection: Advanced Qualification Program (AQP)

AGENCY: Federal Aviation Administration (FAA), DOT.

ACTION: Notice and request for comments.

SUMMARY: In accordance with the Paperwork Reduction Act of 1995, FAA invites public comments about our intention to request the Office of Management and Budget (OMB) approval to renew an information collection. The Advanced Qualification Program uses data informed quality control processes for validating and maintaining the effectiveness of air carrier training program curriculum content.

DATES: Written comments should be submitted by November 21, 2023.

ADDRESSES: Please send written comments:

By Electronic Docket: www.regulations.gov (Enter docket number into search field).

By Mail: Sandra Ray, Federal Aviation Administration, AFS-260, 1187 Thorn Run Road, Suite 200, Coraopolis, PA 15108.

By Fax: 412-239-3063.

FOR FURTHER INFORMATION CONTACT: Sandra L. Ray by email at: Sandra.ray@faa.gov; phone: 412-546-7344.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0701.

Title: Advanced Qualification Program (AQP) Subpart Y to 14 CFR 121.

Form Numbers: N/A.

Type of Review: Renewal of an information collection.

Background: Under 14 CFR part 121, subpart Y, Advanced Qualification Program (AQP), the FAA provides certificated air carriers, as well as training centers they employ, with a regulatory alternative for training, checking, qualifying, and certifying aircrew personnel subject to the requirements of 14 CFR parts 121 and 135. Data collection and analysis processes ensure that the certificate holder provides performance information on its crewmembers, flight instructors, and evaluators that will enable them and the FAA to determine whether the form and content of training and evaluation activities are satisfactorily accomplishing the overall objectives of the curriculum.

Respondents: 25 Respondents with approved Advanced Qualification Programs.

Frequency: Monthly.

Estimated Average Burden per Response: 7 Hours.

Estimated Total Annual Burden: 2,100 Hours.

Issued in Washington, DC, on September 19, 2023.
Sandra L Ray,
Aviation Safety Inspector, AFS-260.

[FR Doc. 2023-20543 Filed 9-21-23; 8:45 am]

BILLING CODE 4910-13-P